DEPARTMENT OF AGRICULTURE

Rural Utilities Service

Central Electric Power Cooperative, Inc.: Extension of Comment Period for an Environmental Impact Statement

AGENCY: Rural Utilities Service, USDA.

ACTION: Notice: Extension of Comment Period for an Environmental Impact Statement.

SUMMARY: The Rural Utilities Service (RUS), a Rural Development agency of the U.S. Department of Agriculture (USDA), has issued a Supplemental Draft Environmental Impact Statement (Supplemental Draft EIS) for Central Electric Power Cooperative's (Central Electric) proposed McClellanville Area 115-kV Transmission Project (Project) in South Carolina. In this document, RUS analyzes the environmental impacts associated with an anticipated decision request to approve or deny funding for Central Electric's proposed Project. The Supplement Draft EIS was prepared to address substantial changes to the proposed action and assesses new circumstances and information relevant to potential environmental impacts originally evaluated in the Draft Environmental Impact Statement (Draft EIS). RUS published a Notice of Intent and Availability on August 30, 2019, that provided a 60-day comment period, ending on the date announced in the U.S. Environmental Protection Agency's (USEPA) EIS receipt notice on October 22, 2019. RUS is extending the public comment period for the Draft EIS by an additional 30 days to November 21, 2019.

DATES: With this notice, RUS extends the public comment period to November 21, 2019. Comments submitted to RUS regarding the Supplemental Draft EIS prior to this announcement do not need to be resubmitted as a result of this extension to the comment period. The date(s) and time for a public meeting will be announced in local newspapers and published on the agency's website at: https://www.rd.usda.gov/publications/environmental-studies/impact-statements/mccllellanville-115kv-transmission-line.

ADDRESSES: The Supplemental Draft EIS and associated documents are available at the weblink provided in this Notice (https://www.rd.usda.gov/publications/environmental-studies/impact-statements/mccllellanville-115kv-transmission-line). RUS will consider all substantive written comments on the Supplemental Draft EIS received or postmarked within the 90-day timeframe or until November 21, 2019. Agencies, interested parties, and the public are invited to submit comments on the Supplemental Draft EIS at any time during the public comment period by either of the following methods:

• Email: Please send your comments to Comments-mcclellanville@louisberger.com.

• Postal Mail/Commercial Delivery: Please send your comment addressed to Ms. Lauren Rayburn, Environmental Scientist, Rural Utilities Service, 160 Zillicoa Street, Suite 2, Asheville, North Carolina 28801.

FOR FURTHER INFORMATION CONTACT: For information on the proposed Project and the EIS process, please contact Ms. Lauren Rayburn, Environmental Scientist, Rural Utilities Service, 160 Zillicoa Street, Suite 2, Asheville, North Carolina 28801 or email to: lauren.rayburn@usda.gov. Parties wishing to be placed on the Project mailing list for future information and to receive copies of the Supplemental Draft EIS and the Final EIS when available should also contact Ms. Rayburn.

SUPPLEMENTARY INFORMATION: RUS is authorized to make loans and loan guarantees that finance the construction of electric distribution, transmission, and generation facilities, including system improvements and replacements required to furnish and improve electric service in rural areas, as well as demand side management, energy conservation programs, and on-grid and off-grid renewable energy systems. Central Electric is an electric transmission cooperative that provides transmission service from the bulk transmission system to South Carolina's 20 retail electric cooperatives. Berkeley Electric, a member distribution electric cooperative of Central Electric, was formed in 1940 to bring electric service to rural areas of coastal South Carolina. Berkeley Electric owns and operates more than 5,000 miles of distribution line serving more than 80,000 accounts in Berkeley, Charleston, and Dorchester counties.

Project Description: Central Electric has identified the need for additional electric transmission capacity in the McClellanville area of coastal South Carolina to meet reliability and energy load requirements of its member owner, Berkeley Electric Cooperative. Investigations and analyses conducted for the overall power delivery systems found that without improvements, the flow of power along existing lines may result in local line overloads and power outages. To resolve these issues, Central Electric is proposing to construct, own and operate a new 115-kV transmission line and associated supporting infrastructure to energize the new McClellanville Substation, located near the McClellanville service area. Berkeley Electric owner-customers that would benefit from the proposed Project include those located in the areas near Rutledge Road, South Santee Road, Wedge Plantation, Germantown, Toby Road, Dupree Road, Lincoln High School, Randall Road, Tibwin Road, St. James-Santee School, Shellmore, Buck Hall, Town of Awendaw, Doar Road, and areas adjacent to U.S. Highway 17 in northern Charleston County.

The Supplemental Draft EIS considers three alternatives, encompassing three potential corridor locations with one corridor including two different alignments. The corridors range in length from 16 to 31 miles and encompasses parts of Berkeley, Georgetown and Charleston counties in South Carolina. The corridor locations propose to cross both public and private lands, including the Francis Marion National Forest, Santee Coastal Reserve, and other private and public lands used for conservation management purposes; all corridors are located entirely within the Gullah Geechee Cultural Heritage Corridor. The Supplemental Draft EIS analyzes the extent of Central's Electric's proposal with regard to the following: Water resources, biological resources, soils and geology, air quality and greenhouse gas emissions, cultural resources, recreation and land use, visual resources, socioeconomics, environmental justice, transportation, health and safety, and noise.

Central Electric plans to request financial assistance for the proposed Project from RUS. Completing the EIS is one of RUS's requirements in processing a future application from Central Electric, along with other technical and financial considerations. In accordance with 40 CFR 1501.5(b) of the Council on Environmental Quality's (CEQ) Regulation for Implementing the Procedural Provisions of the National Environmental Policy Act (CEQ Regulations), RUS will serve as the lead agency in the preparation of the EIS. The U.S. Army Corps of Engineers and the U.S. Forest Service are participating as cooperating agencies. RUS has prepared a Supplemental Draft EIS to analyze the impacts of the respective federal actions and the proposed Project in accordance with the National Environmental Policy Act (NEPA), as amended, CEQ Regulations, RUS Environmental Policies and Procedures, and the U.S. Forest Service's National Environmental Policy Act procedures.

Because the proposed Project may involve action in floodplains or wetlands, this Notice also serves as a notice of proposed floodplain or wetland action. The Supplemental Draft EIS will include an assessment of effects to floodplains/wetlands and, if required, a statement of findings will be issued with the Final SEIS.

RUS has determined that its action regarding the proposed Project would be an undertaking subject to review under Section 106 of the National Historic Preservation Act (Section 106), and its implementing regulations, “Protection of Historic Properties.” As part of its broad environmental review process, RUS must consider the effect of the proposed Project on historic properties in accordance with Section 106. Pursuant to 36 CFR 800.2(d)(3), RUS is using its procedures for public involvement under NEPA to meet its responsibilities to solicit and consider the views of the public during Section 106 review. Accordingly, comments submitted in response to this Notice will inform RUS decision-making in its Section 106 review process. Any party wishing to participate more directly with RUS as a “consulting party” in Section 106 review may submit a written request to the RUS contact provided in this Notice.

Agency Responsibilities: RUS is serving as the lead agency, as defined at 40 CFR 1501.5, for preparation of the Supplemental Draft EIS. The U.S. Army Corps of Engineers and the U.S. Forest Service are participating as cooperating agencies and may issue separate Records of Decision relevant to the Project under separate authorities. For the U.S. Forest Service, a draft Record of Decision would be subject to the Agency's administrative review process at 36 CFR part 218, subparts A and B. The U.S. Forest Service may need to issue a special use permit to authorize occupancy of National Forest System lands for this proposal. Per 40 CFR 1506.3, the U.S. Forest Service intends to review and adopt the Final EIS, if found sufficient, in support of issuance of a special use permit.

Public Participation: The EIS process has included past scoping meetings and comment periods; consultation and involvement with appropriate Federal, State, local, and tribal governments; and a public meeting and comment period on the Draft EIS issued in 2014. Comments may be submitted as provided in the ADDRESSES section of this notice. The process will be followed by the publication of a Final EIS as well as publication of a Record of Decision in the Federal Register.

Christopher A. Mclean,
Assistant Administrator—Electric Program, Rural Utilities Service.

[FR Doc. 2019-23065 Filed 10-22-19; 8:45 am]

BILLING CODE 3410-15-P